DEPARTMENT OF HOUSING AND URBAN DEVELOPMENT

[Docket No. FR-4682-N-04]

Notice of Regulatory Waiver Requests Granted for the Fourth Quarter of Calendar Year 2001

AGENCY: Office of the Secretary, HUD.

ACTION: Public notice of the granting of regulatory waivers from October 1, 2001, through December 31, 2001.

SUMMARY: Section 106 of the Department of Housing and Urban Development Reform Act of 1989 (the HUD Reform Act) requires HUD to publish quarterly Federal Register notices of all regulatory waivers that HUD has approved. Each notice must cover the quarterly period since the most recent Federal Register notice. The purpose of this notice is to comply with the requirements of section 106 of the HUD Reform Act. This notice contains a list of regulatory waivers granted by HUD during the quarter beginning on October 1, 2001, and ending on December 31, 2001.

FOR FURTHER INFORMATION CONTACT: For general information about this notice, contact Aaron Santa Anna, Assistant General Counsel for Regulations, Room 10282, Department of Housing and Urban Development, 451 Seventh Street, SW, Washington, DC 20410; telephone (202) 708-3055 (this is not a toll-free number). Hearing or speech-impaired persons may access this number via TTY by calling the toll-free Federal Information Relay Service at 1-800-877-8391.

For information concerning a particular waiver action for which public notice is provided in this document, contact the person whose name and address follow the description of the waiver granted in the accompanying list of waiver-grant actions.

SUPPLEMENTARY INFORMATION: As part of the Housing and Urban Development Reform Act of 1989 (the HUD Reform Act), the Congress adopted, at HUD's request, legislation to limit and control the granting of regulatory waivers by HUD. Section 106 of the HUD Reform Act added a new section 7(q) to the Department of Housing and Urban Development Act (2 U.S.C. 3535(q)), which provides that:

1. Any waiver of a regulation must be in writing and must specify the grounds for approving the waiver;

2. Authority to approve a waiver of a regulation may be delegated by the Secretary only to an individual of Assistant Secretary rank or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived, and the designation of the provision;

c. Indicate the name and title of the person who granted the waiver request;

d. Describe briefly the grounds for approval of the request; and

e. State how additional information about a particular waiver grant action may be obtained.

Section 106 of the HUD Reform Act also contains requirements applicable to waivers of HUD handbook provisions that are not relevant to the purpose of this notice.

Today's document follows publication of HUD's Statement of Policy on Waiver of Regulations and Directives issued by HUD on April 22, 1991 (56 FR 16337). This notice covers HUD's waiver-grant activity from October 1, 2001, through December 31, 2001. This notice also includes a waiver from an earlier reporting period that was inadvertently omitted from the appropriate earlier report. For ease of reference, the waivers granted by HUD are listed by HUD program office (for example, the Office of Community Planning and Development, the Office of Housing, the Office of Public and Indian Housing, etc.). Within each program office grouping, the waivers are listed sequentially by the section of title 24 being waived. For example, a waiver-grant action involving the waiver of a provision in 24 CFR part 58 would come before a waiver of a provision in 24 CFR part 570.

Where more than one regulatory provision is involved in the grant of a particular waiver request, the action is listed under the section number of the first regulatory requirement that appears in title 24 of the Code of Federal Regulations and that is being waived as part of the waiver-grant action. For example, a waiver of both § 58.73 and § 58.74 would appear sequentially in the listing under § 58.73.

Waiver-grant actions involving the same initial regulatory citation are in time sequence beginning with the earliest-dated waiver grant action.

Should HUD receive additional reports of waiver actions taken during the period covered by this report before the next report is published, the next updated report will include these earlier actions, as well as those that occurred between January 1, 2002, through March 31, 2002.

Accordingly, information about approved waiver requests pertaining to HUD regulations is provided in the Appendix that follows this notice.

Dated: April 16, 2002.
Alphonso Jackson,
Deputy Secretary.

Appendix—Listing of Waivers of Regulatory Requirements Granted by Offices of the Department of Housing and Urban Development October 1, 2001 through December 31, 2001

Note to Reader: More information about the granting of these waivers, including a copy of the waiver request and approval, may be obtained by contacting the person whose name is listed as the contact person directly after each set of waivers granted.

The regulatory waivers granted appear in the following order:

I. Regulatory waivers granted by the Office of Community Planning and Development.

II. Regulatory waivers granted by the Office of Healthy Homes and Lead Hazard Control.

III. Regulatory waivers granted by the Office of Housing.

IV. Regulatory waivers granted by the Office of Multifamily Housing Assistance Restructuring, (OMHAR).

V. Regulatory waivers granted by the Office of Public and Indian Housing.

I. Regulatory Waivers Granted by the Office of Community Planning and Development

For further information about the following waiver actions, please see the name of the contact person who immediately follows the description of the waiver granted.

• Regulation: 24 CFR 91.520(a).

Project/Activity: The Commonwealth of Virginia requested a waiver of the submission deadline for the State's 2000 program year Consolidated Annual Performance and Evaluation Report (CAPER).

Nature of Requirement: 24 CFR 91.520(a) requires each grantee to submit a performance report to HUD within 90 days after the close of the grantee's program year.

Granted By: Roy A. Bernardi, Assistant Secretary for Community Planning and Development.

Date Granted: October 1, 2001.

Reasons Waived: The Commonwealth of Virginia requested an extension due to personnel changes in the Virginia Housing Division and additional needed effort to develop information from the Commonwealth's and IDIS reporting format. While HUD is desirous of timely reports, the Department is also interested in ensuring that information from grantees is complete and accurate. The Department granted the Commonwealth of Virginia an extension to October 26, 2001, to submit its 2000 CAPER.

Contact: Cornelia Robertson-Terry, Office of Community Planning and Development, Room 7152, Department of Housing and Urban Development, 451 Seventh Street, SW., Washington, DC 20410; telephone: (202) 708-2565, extension 4556.

• Regulation: 24 CFR 91.520(a).

Project/Activity: The City of Berwyn, Illinois, requested a waiver of the submission deadline for the city's 2000 program year CAPER.

Nature of Requirement: Section 91.520(a) requires each grantee to submit a performance report to HUD within 90 days after the close of the grantee's program year.

Granted By: Roy A. Bernardi, Assistant Secretary for Community Planning and Development.

Date Granted: November 16, 2001.

Reasons Waived: The city experienced difficulty with the Integrated Disbursement and Information System (IDIS). Because this is the city's first CAPER, the city wants to ensure it has adequate time to consult with its subrecipients. While HUD is desirous of timely reports, the Department is also interested in ensuring that the information from grantees is complete and accurate. The Department granted the city an extension to February 28, 2002, to submit its 2000 CAPER.

Contact: Cornelia Robertson-Terry, Office of Community Planning and Development, Room 7152, Department of Housing and Urban Development, 451 Seventh Street, SW., Washington, DC 20410; telephone: (202) 708-2565, extension 4556.

• Regulation: 24 CFR 91.520(a).

Project/Activity: Cook County, Illinois, requested a waiver of the submission deadline for the county's 2000 program year CAPER.

Nature of Requirement: Section 91.520(a) requires each grantee to submit a performance report to HUD within 90 days after the close of the grantee's program year.

Granted By: Roy A. Bernardi, Assistant Secretary for Community Planning and Development.

Date Granted: November 16, 2001.

Reasons Waived: The county discovered a number of inaccuracies and discrepancies in report data generated by the Integrated Disbursement and Information System (IDIS). The county requested additional time to ensure that its information is accurate. While HUD is desirous of timely reports, the Department is also interested in ensuring that information from grantees is complete and accurate. The Department granted the county an extension to February 28, 2002, to submit its 2000 CAPER.

Contact: Cornelia Robertson-Terry, Office of Community Planning and Development, Room 7152, Department of Housing and Urban Development, 451 Seventh Street, SW., Washington, DC 20410; telephone: (202) 708-2565, extension 4556.

• Regulation: 24 CFR 92.2.

Project/Activity: The State of New Mexico requested a waiver of the HOME program definition of “Homeownership” under § 24 CFR 92.2

Nature of Requirement: As defined in § 92.2, homeownership requires a fee simple title or a 99-year leasehold interest in a one to four unit dwelling or condominium unit, or equivalent form of ownership approved by HUD.

Granted By: Roy A. Bernardi, Assistant Secretary for Community Planning and Development.

Date Granted: October 1, 2001.

Reasons Waived: The Department determined that application of the 99-year lease requirement would constitute an undue hardship. Since the Bureau of Indian Affairs restricts the term of land leases to 50-years, the 99-year lease provision of the HOME program would make it impossible to provide homeownership assistance to families on tribal lands.

Contact: Cornelia Robertson-Terry, Office of Community Planning and Development, Room 7152, Department of Housing and Urban Development, 451 Seventh Street, SW., Washington, DC 20410; telephone: (202) 708-2565, extension 4556.

• Regulation: 24 CFR 92.250(a).

Project/Activity: Kimball, McDowell County, West Virginia, requested a waiver of the per-unit subsidy limit for the HOME Program.

Nature of Requirement: Section 92.250(a) requires that the amount of HOME funds used on a per-unit basis in affordable housing may not exceed the per-unit dollar limits established under section 221(d)(3)(ii) of the National Housing Act (12 U.S.C. 17151(d)(3)(ii)).

Granted By: Roy A. Bernardi, Assistant Secretary for Community Planning and Development.

Date Granted: November 6, 2001.

Reasons Waived: The Department is aware that the projected cost increase is due in part to an expedited schedule to respond to a natural disaster that affected the area and was not in the control of the West Virginia Housing Development Funds. The replacement housing is within a Presidentially-Declared Disaster Area. These circumstances constitute good cause for a suspension of section 212(e) of the National Affordable Housing Act and a waiver of the regulations.

Contact: Cornelia Robertson-Terry, Office of Community Planning and Development, Room 7152, Department of Housing and Urban Development, 451 Seventh Street, SW., Washington, DC 20410; telephone: (202) 708-2565, extension 4556.

• Regulation: 24 CFR 92.251 & 92.502(d).

Project/Activity: The State of Wisconsin requested a waiver of HOME Program regulations governing property standards and program completion. The State seeks relief from HOME requirements in order to reimburse the Wisconsin Coulee Region Community Action Plan (CAP) for the expense incurred in rehabilitating a property.

Nature of Requirement: Section 92.251 requires that housing constructed or rehabilitated with HOME funds must meet all applicable local codes, rehabilitation standards, ordinances, and zoning ordinances at the time of project completion. Section 92.502 (d) requires that complete project complete information must be entered into the disbursement and information system, or otherwise provided, within 120 days of the final project draw down.

Granted By: Roy A. Bernardi, Assistant Secretary for Community Planning and Development.

Date Granted: November 20, 2001.

Reasons Waived: The homeowner refused to allow the Wisconsin Coulee Region CAP access to his property to complete the installation of four feet of deck railing and one exterior ground fault interruption circuit necessary to bring his property up to the applicable standards. Consequently the property does not meet local codes and rehabilitation standards. The CAP indicated that it has exhausted all alternatives to complete the activity. The Department determined that there was good cause for granting the waiver because the CAP has demonstrated due diligence in attempting to satisfy program requirements.

Contact: Cornelia Robertson-Terry, Office of Community Planning and Development, Room 7152, Department of Housing and Urban Development, 451 Seventh Street, SW., Washington, DC 20410; telephone: (202) 708-2565, extension 4556.

• Regulation: 24 CFR 92.254(a)(5)(ii)(A)(7).

Project/Activity: Delaware County, Pennsylvania, requested a waiver of 24 CFR 92.254(a)(5)(ii)(A)(7) to allow low-income families of HOME-assisted property an additional 18 months to complete the acquisition of their homes under lease-purchase agreements.

Nature of Requirement: Section 92.254(a)(5)(ii)(A)(7) requires that families participating in HOME-funded lease purchase program must acquire their homes within 36 months of signing the lease-purchase agreement.

Granted By: Roy A. Bernardi, Assistant Secretary for Community Planning and Development.

Date Granted: November 6, 2001.

Reasons Waived: HUD recognizes the challenges and delays that have resulted from having to bring in a second nonprofit to take over the program and considers this circumstance as good cause for granting a waiver. Further, HUD is concerned that none of the original families selected for this program has been able to complete their lease—purchase obligations in the past four years. The waiver grants an additional 12 months for transfer of ownership to take place. This waiver will allow time for five families that are deemed to have some possibility to complete purchase to do so.

Contact: Cornelia Robertson-Terry, Office of Community Planning and Development, Room 7152, Department of Housing and Urban Development, 451 Seventh Street, SW., Washington, DC 20410; telephone: (202) 708-2565, extension 4556.

• Regulation: 24 CFR 92.500(d)(1)(C).

Project/Activity: The Municipality of Carolina, Puerto Rico, requested a waiver of its FY 1995 HOME program expenditure deadline of June 30, 2000.

Nature of Requirement: Section 92.500(d)(1)(C) requires HUD to deobligate any funds in the United States Treasury account which are not expended within 60 months of the last day that HUD notifies the participating jurisdiction of HUD's execution of the HOME Investment Partnership Agreement.

Granted By: Roy A. Bernardi, Assistant Secretary for Community Planning and Development.

Date Granted: November 20, 2001.

Reasons Waived: The lack of a functioning Community Housing Development Organization (CHDO) and project delays caused by unanticipated circumstances affected the PJ's ability to spend its HOME allocation in a timely manner. The Department noted that the Municipality has made several administrative changes to improve the accountability and performance of its HOME program. Therefore, given the positive steps taken by the Municipality to address its problems and the fact that the 1995 expenditure shortfall was fully expended four and one-half months after the June 30, 2000, regulatory deadline, the Department determined that there is good cause to grant the requested waiver.

Contact: Cornelia Robertson-Terry, Office of Community Planning and Development, Room 7152, Department of Housing and Urban Development, 451 Seventh Street, SW., Washington, DC 20410; telephone: (202) 708-2565, extension 4556.

• Regulation: 24 CFR 92.503(b)(2).

Project/Activity: The County of Burlington, New Jersey, requested a waiver of the repayment requirements in 24 CFR 92.503(b)(2) of the HOME regulations.

Nature of Requirement: Section 92.503(b)(2) requires a participating jurisdiction (PJ) to repay any HOME funds invested in a project that is terminated before completion.

Granted By: Roy A. Bernardi, Assistant Secretary for Community Planning and Development.

Date Granted: December 20, 2001.

Reasons Waived: HUD determined that the County of Burlington's exercise of due diligence in recovering almost all of the HOME funds expended on this project constitutes good cause for a waiver. This waiver relieves the County of Burlington's obligation to repay the outstanding amount of $2,941.05 used on this project.

Contact: Cornelia Robertson-Terry, Office of Community Planning and Development, Room 7152, Department of Housing and Urban Development, 451 Seventh Street, SW., Washington, DC 20410; telephone: (202) 708-2565, extension 4556.

• Regulation: 24 CFR 570.208(a)(3).

Project/Activity: The City of St. Louis, Missouri, requested a waiver of the low- and moderate-income national objective requiring that low- and moderate-income households must occupy at least 51 percent of the units in a multi-unit residential structure.

Nature of Requirement: Section 570.208(a)(3) requires that at least 51 percent of the units in a multi-unit residential structure be occupied by low- and moderate-income households.

Granted By: Roy A. Bernardi, Assistant Secretary for Community Planning and Development.

Date Granted: December 4, 2001.

Reasons Waived: The methodology identified in the regulations at 24 CFR 570.208(a)(3) for multi-unit residential building is not required by statute. Therefore, HUD may consider a waiver to permit the use of another methodology to meet the housing national objective. Based on the information provided by the city, the Department determined that the city has demonstrated good cause for the waiver. This project will significantly promote the purposes of the Housing and Community Development Act by expanding housing opportunities and choices for low- and moderate-income households and providing an income mix in a redeveloping neighborhood. The waiver is granted with the understanding that low- and moderate-income households will occupy 20 percent of the units and that the CDBG funds will constitute 7.5 percent of the total cost of the project.

Contact: Cornelia Robertson-Terry, Office of Community Planning and Development, Room 7152, Department of Housing and Urban Development, 451 Seventh Street, SW., Washington, DC 20410; telephone: (202) 708-2565, extension 4556.

• Regulation: 24 CFR 574.310(c)(1)(i).

Project/Activity: The State of Indiana requested a waiver of the minimum use period for structures assisted with HOPWA funds.

Nature of Requirement: Section 574.310 (c)(1)(i) requires that any building or structure assisted with HOPWA funds for new construction, substantial rehabilitation or acquisition must be maintained as a facility to provide housing or assistance for individuals with acquired immunodeficiency syndrome or related diseased for a period of not less that 10 years.

Granted By: Roy A. Bernardi, Assistant Secretary for Community Planning and Development.

Date Granted: November 29, 2001.

Reasons Waived: The Department determined that there was good cause for the waiver because the supporting documentation verified that the assisted structure is no longer needed to provide supported housing or assistance. Due to the development of new drug treatment modalities, individuals with HIV/AIDS are currently able to live longer and in more independent settings than this facility provides. The facility is presently operating at a financial loss due to low occupancy. Thus the continued operation of the facility for such purpose is no longer feasible.

Contact: Cornelia Robertson-Terry, Office of Community Planning and Development, Room 7152, Department of Housing and Urban Development, 451 Seventh Street, SW., Washington, DC 20410; telephone: (202) 708-2565, extension 4556.

II. Regulatory Waivers Granted by the Office of Healthy Homes and Lead Hazard Control

For further information about the following waiver actions, please see the name of the contact person who immediately follows the description of the waiver granted.

• Regulation: 24 CFR Part 35, Subparts B-R.

Project/Activity: Waiver of the existing compliance date (January 10, 2002) for the HUD Lead Safe Housing Rule for all HUD programs in New York, NY. The new compliance date is April 10, 2002.

Nature of Requirement: The regulations in 24 CFR part 35, Subparts B-R, requires actions to identify and reduce lead-based paint hazards in pre-1978 housing that is financially assisted or sold by the federal government. Specific requirements depend on whether the housing is being disposed of or assisted by the federal government, on the type and amount of financial assistance, the age of the structure, and whether the dwelling is rental or owner-occupied.

Granted By: Alphonso Jackson, Deputy Secretary.

Date Granted: November 1, 2001.

Reason Waived: The availability of trained contractors is inadequate due to the ongoing recovery efforts following the attacks on the World Trade Center on September 11, 2001.

Contact: David E. Jacobs, Director, Office of Healthy Homes and Lead Hazard Control Department of Housing and Urban Development, Room P3206, L'Enfant Plaza, Washington, DC 20410; telephone: (202) 755-4973.

III. Regulatory Waivers Granted by the Office of Housing

For further information about the following waiver actions, please see the name of the contact person who immediately follows the description of the waiver granted.

• Regulation: 24 CFR 202.3(c)(2)(iii).

Project/Activity: Credit Watch/Termination Threshold, Washington, DC.

Nature of Requirement: Section 202.3(c)(2)(iii) establishes a threshold for placing a HUD/FHA approved lender on Credit Watch status when its default and claim rate exceeds the field office default and claim rate.

Granted By: John C. Weicher, Assistant Secretary for Housing-Federal Housing Commissioner.

Date Granted: October 3, 2001.

Reason Waived: Waiving the regulation permits HUD/FHA to initially focus on those lenders originating the worst performing loans. The waiver will adjust the Credit Watch threshold from being between 150% and 200.9% of the HUD field office default and claim rate to being between 200% and 300.9% of that rate. This waiver is limited to Credit Watch reviews conducted in the third quarter of CY 2001.

Contact: Joy L. Hadley, Director, Quality Assurance Division, U. S. Department of Housing and Urban Development, 451 Seventh Street, SW., Room B133-P3214, Washington, DC 20410-7000; telephone: (202) 708-2830.

• Regulation: 24 CFR 203.42.

Project/Activity: City of Palatka Housing Authority, Palatka, Florida.

Nature of Requirement: Section 203.42 prohibits mortgage insurance on property that is part of a project, subdivision, or group of rental properties in which the mortgagor has a financial interest in eight or more dwellings.

Granted by: John C. Weicher, Assistant Secretary for Housing-Federal Housing Commissioner.

Date Granted: November 26, 2001.

Reason Waived: The waiver was granted in order to permit the Housing Authority of the City of Palatka, Florida, to refinance the blanket mortgage on twenty-two units with FHA mortgage insurance to promote the City's affordable housing and homeownership programs.

Contact: Vance Morris, Director, Office of Single Family Program Development, Department of Housing and Urban Development, 451 Seventh Street, SW., Washington, DC 20410; telephone: (202) 708-2121, extension 2204.

• Regulation: 24 CFR 203.670(b)(3), 24 CFR 203.674(b), 24 CFR 203.675, 24 CFR 203.679(a).

Project/Activity: Friends of Tyler School, Washington, DC.

Nature of Requirement: Section 203.670(b)(3) permits occupied conveyance of the property if it is in the Secretary's interest under 24 CFR 203.671. Section 203.674(b) states the required conditions for continued occupancy for an occupant who does not meet the illness or injury criteria. Section 203.675 sets out the requirements for adequate notice to occupants of pending acquisition. Section 203.679(a) states that occupancy of HUD-acquired property is temporary in all cases and is subject to termination when necessary to facilitate preparing the property for sale.

Granted By: John C. Weicher, Assistant Secretary for Housing-Federal Housing Commissioner.

Date Granted: December 12, 2001.

Reason Waived: Those regulations were waived in order to allow the Department to accept an occupied conveyance. Occupied conveyance will facilitate and expedite a direct sale of the property to Friends of Tyler School, a private nonprofit organization with headquarters next-door to the property.

Contact: Joe McCloskey, Director, Office of Single Family Asset Management, Department of Housing and Urban Development, 451 Seventh Street, SW., Washington, DC 20410-7000; telephone: (202) 708-1672, extension 2296.

• Regulation: 24 CFR 203.673(a) and (b), 203.674(b)(1), 203.675, 203.676, 203.677, 203.678, and, 291.100(a)(2).

Project/Activity: Easy Life Real Estate Systems, Inc. in Chicago, Illinois.

Nature of Requirement: Section 203.673(a) and (b) require each residential unit that HUD acquires to contain adequate heating facilities, electrical supplies, cooking and sanitary facilities, and a continuing supply of hot and cold water. Section 203.674(b)(1) governs the application process for eligibility for continued occupancy of a property that has been conveyed to FHA in exchange for insurance benefits. Section 203.675 addresses the process by which notice is provided to the occupants of each property when acquisition by FHA is anticipated to occur within 60 to 90 days. Section 203.676 provides the time frames in which the occupants must respond to the standard notice to request occupied conveyance. Section 203.677 sets forth the procedures that FHA uses to approve or deny a request for occupied conveyance. Section 203.678 contains time frames for requesting occupied conveyance. Section 291.100(a)(2) precludes former mortgagors who have defaulted on their FHA-insured mortgages from obtaining a right of first refusal to purchase the property from FHA that had been the security for the defaulted mortgage.

Granted By: John C. Weicher, Assistant Secretary for Housing-Federal Housing Commissioner.

Date Granted: November 5, 2001.

Reason Waived: Waiving the regulations will enable the FHA mortgagors who still own properties subject to FHA-insured mortgages to continue to occupy their homes while the properties are conveyed to HUD and will offer them the opportunity to repurchase from the Department the properties they are occupying. This waiver is limited to FHA mortgagors who were members of the class action suit captioned Ruby Honorable v. Easy Life Real Estate System, Inc., covered by the settlement agreement dated March 16, 2001, and still occupying their homes. The court order entering the settlement agreement establishes that the covered FHA mortgagors were victims of predatory practices. The waivers are consistent with the Department's objectives of helping to maintain homeownership and affordable housing opportunities and mitigate losses to the insurance funds.

Contact: Joseph McCloskey, Director, Office of Single Family Asset Management, Department of Housing and Urban Development, 451 Seventh Street, SW. Washington, DC 20410-7000; telephone: (202) 708-1672, extension 2296.

• Regulation: 24 CFR 891.100(d).

Project/Activity: Village Pointe, Norfolk, Virginia, Project Number: 051-EE064/VA36-S981-004.

Nature of Requirement: Section 891.100(d) prohibits amendment of the amount of approved capital advance funds prior to initial closing.

Granted By: John C. Weicher, Assistant Secretary for Housing-Federal Housing Commissioner.

Date Granted: November 8, 2001.

Reason Waived: The Sponsor exhausted all efforts to obtain additional funding from other sources, the project is comparable to other similar projects developed in the area and is economically designed.

Contact: Monique Love, Office of Housing Assistance and Grant Administration, Department of Housing and Urban Development, 451 Seventh Street, SW. Washington, DC 20410; telephone: (202) 708-0614, extension 2475.

• Regulation: 24 CFR 891.100(d).

Project/Activity: Buckingham Terrace III, Brunswick, Georgia, Project Number: 061-EE093/GA06-S001-001.

Nature of Requirement: Section 891.100(d) prohibits amendment of the amount of approved capital advance funds prior to initial closing.

Granted By: John C. Weicher, Assistant Secretary for Housing-Federal Housing Commissioner.

Date Granted: December 10, 2001.

Reason Waived: The Sponsor exhausted all efforts to obtain additional funding from other sources, and the project is comparable to other similar projects developed in the area and is economically designed.

Contact: Monique Love, Office of Housing Assistance and Grant Administration, Department of Housing and Urban Development, 451 Seventh Street, SW., Washington, DC 20410; telephone: (202) 708-0614, extension 2475.

• Regulation: 24 CFR 891.100(d).

Project/Activity: Mt. Carmel Senior Housing, Brooklyn, New York, Project Number: 012-EE277/NY36-S991-017.

Nature of Requirement: Section 891.100(d) prohibits amendment of the amount of approved capital advance funds prior to initial closing.

Granted By: John C. Weicher, Assistant Secretary for Housing-Federal Housing Commissioner.

Date Granted: December 4, 2001.

Reason Waived: The Sponsor exhausted all efforts to obtain additional funding from other sources, the project is economically designed and comparable to other similar projects developed in the area.

Contact: Brenda Butler, Office of Housing Assistance and Grant Administration, Department of Housing and Urban Development, 451 Seventh Street, SW., Washington, DC 20410; telephone: (202) 708-0614, extension 6788.

• Regulation: 24 CFR 891.100(d).

Project/Activity: Shakespeare Senior Housing, Warner Robins, Georgia Project Number: 012-EE266/NY36-S991-006.

Nature of Requirement: HUD's regulation at 24 CFR 891.100(d) prohibits amendment of the amount of approved capital advance funds prior to initial closing.

Granted By: John C. Weicher, Assistant Secretary for Housing-Federal Housing Commissioner.

Date Granted: December 13, 2001.

Reason Waived: The Sponsor exhausted all efforts to obtain additional funding from other sources, the project is economically designed and comparable to other similar projects developed in the area.

Contact: Frank Tolliver, Office of Housing Assistance and Grant Administration, Department of Housing and Urban Development, 451 Seventh Street, SW., Washington, DC 20410; telephone: (202) 708-0614, extension 3821.

• Regulation: Section 891.100(d).

Project/Activity: Falcon Park III, Warner Robins, Georgia Project Number: 061-HD067/GA06-Q981-006.

Nature of Requirement: HUD's regulation at 24 CFR 891.100(d) prohibits amendment of the amount of approved capital advance funds prior to initial closing.

Granted By: John C. Weicher, Assistant Secretary for Housing-Federal Housing Commissioner.

Date Granted: December 27, 2001.

Reason Waived: Higher construction costs have substantially increased the cost of the project, the Sponsor exhausted all efforts to obtain additional funding from other sources, the project is economically designed and comparable to other similar projects developed in the area.

Contact: Frank Tolliver, Office of Housing Assistance and Grant Administration, Department of Housing and Urban Development, 451 Seventh Street, SW., Washington, DC 20410; telephone: (202) 708-0614, extension 3821.

• Regulation: 24 CFR 891.100(d).

Project/Activity: Wolcott Senior Housing, Wolcott, Connecticut, Project Number: 017-EE052/CT26-S991-003.

Nature of Requirement: Section 891.100(d) prohibits amendment of the amount of approved capital advance funds prior to initial closing.

Granted By: John C. Weicher, Assistant Secretary for Housing-Federal Housing Commissioner.

Date Granted: October 25, 2001.

Reason Waived: Higher construction costs have substantially increased the cost of the project, the Sponsor exhausted all efforts to obtain additional funding from other sources, the project is economically designed and comparable to other similar projects developed in the area.

Contact: Frank Tolliver, Office of Housing Assistance and Grant Administration, Department of Housing and Urban Development, 451 Seventh Street, SW., Washington, DC 20410; telephone: (202) 708-0614, extension 3821.

• Regulation: Section 891.100(d).

Project/Activity: The Margaret C. Love House, Vineyard Haven, Massachusetts, Project Number: 023-EE097/MA06-S981-002.

Nature of Requirement: HUD's regulation at 24 CFR 891.100(d) prohibits amendment of the amount of approved capital advance funds prior to initial closing.

Granted By: John C. Weicher, Assistant Secretary for Housing-Federal Housing Commissioner.

Date Granted: November 8, 2001.

Reason Waived: The location of the project on Martha's Vineyard resulted in additional development costs due to the need to ship construction materials to the property, the project is modest in design and the Sponsor/Owner secured additional funding in the amount of $198,133.

Contact: Rita Ross, Office of Housing Assistance and Grant Administration, Department of Housing and Urban Development, 451 Seventh Street, SW., Washington, DC 20410; telephone: (202) 708-0614, extension 2696.

• Regulation: 24 CFR 891.100(d).

Project/Activity: Our Savior's Manor, Westland, Michigan, Project Number: 044-EE071/MI28-S000-004.

Nature of Requirement: HUD's regulation at 24 CFR 891.100(d) prohibits amendment of the amount of approved capital advance funds prior to initial closing.

Granted By: John C. Weicher, Assistant Secretary for Housing-Federal Housing Commissioner.

Date Granted: December 26, 2001.

Reason Waived: The Sponsor exhausted all efforts to obtain additional funding from other sources, the project is comparable to other similar projects developed in the area and is economically designed.

Contact: Monique Love, Office of Housing Assistance and Grant Administration, Department of Housing and Urban Development, 451 Seventh Street, SW., Washington, DC 20410; telephone: (202) 708-0614, extension 2475.

• Regulation: 24 CFR 891.100(d).

Project Activity: North Haven Elderly Housing, North Haven, Connecticut, Project Number: 017-EE051/CT26-S991-002.

Nature of Requirement: Section 891.100(d) prohibits amendment of the amount of approved capital advance funds prior to initial closing.

Granted By: John C. Weicher, Assistant Secretary for Housing-Federal Housing Commissioner.

Date Granted: December 20, 2001.

Reason Waived: Higher construction costs have substantially increased the cost of the project, the Sponsor exhausted all efforts to obtain additional funding from other sources, and the project is comparable to other similar projects developed in the area.

Contact: Frank Tolliver, Office of Housing Assistance and Grant Administration, Department of Housing and Urban Development, 451 Seventh Street, SW., Washington, DC 20410; telephone: (202) 708-0614, extension 3821.

• Regulation: 24 CFR 891.100(d).

Project/Activity: Inglis Gardens at Evesham, Evesham Township, New Jersey, Project Number: 035-HD040/NJ39-Q981-001.

Nature of Requirement: Section 891.100(d) prohibits amendment of the amount of approved capital advance funds prior to initial closing.

Granted By: John C. Weicher, Assistant Secretary for Housing-Federal Housing Commissioner.

Date Granted: December 20, 2001.

Reason Waived: Delays by the original Sponsor, the requirement to use Davis-Bacon wage rates, and the limited availability of contractors to build the project have attributed to higher construction costs.

Contact: Frank Tolliver, Office of Housing Assistance and Grant Administration, Department of Housing and Urban Development, 451 Seventh Street, SW., Washington, DC 20410; telephone: (202) 708-0614, extension 3821.

• Regulation: 24 CFR 891.100(d).

Project/Activity: Morrow Woods, Mt. Gilead, Ohio, Project Number: 043-EE068/OH16-S991-004.

Nature of Requirement: Section 891.100(d) prohibits amendment of the amount of approved capital advance funds prior to initial closing.

Granted By: John C. Weicher, Assistant Secretary for Housing-Federal Housing Commissioner.

Date Granted: November 2, 2001.

Reason Waived: It would be more economically feasible to change the design and develop the project as two-story elevator buildings, the project is comparable to other projects in the area, and the Sponsor has exhausted all efforts to find additional funds from outside sources.

Contact: Frank Tolliver, Office of Housing Assistance and Grant Administration, Department of Housing and Urban Development, 451 Seventh Street, SW., Washington, DC 20410; telephone: (202) 708-0614, extension 3821.

• Regulation: 24 CFR 891.100(d).

Project/Activity: Clair House Senior Housing, Chicago, Illinois, Project Number: 071-EE150/IL06-S991-009.

Nature of Requirement: Section 891.100(d) prohibits amendment of the amount of approved capital advance funds prior to initial closing.

Granted By: John C. Weicher, Assistant Secretary for Housing-Federal Housing Commissioner.

Date Granted: December 7, 2001.

Reason Waived: The project is economically designed, comparable to other projects developed in the area, and the Sponsor has exhausted all efforts to obtain funds from other sources.

Contact: Brenda Butler, Office of Housing Assistance and Grant Administration, Department of Housing and Urban Development, 451 Seventh Street, SW., Washington, DC 20410; telephone: (202) 708-0614, extension 6788.

• Regulation: 24 CFR 891.100(d).

Project/Activity: Homes Anew, Suffolk County, New York, Project Number: 012-HD095/NY36-Q991-006.

Nature of Requirement: Section 891.100(d) prohibits amendment of the amount of approved capital advance funds prior to initial closing.

Granted By: John C. Weicher, Assistant Secretary for Housing-Federal Housing Commissioner.

Date Granted: December 4, 2001.

Reason Waived: The Sponsor was unable to obtain additional funds other than the full exemption of property taxes, and the project is economically designed and comparable to other projects developed in the area.

Contact: Frank Tolliver, Office of Housing Assistance and Grant Administration, Department of Housing and Urban Development, 451 Seventh Street, SW., Washington, DC 20410; telephone: (202) 708-0614, extension 3821.

• Regulation: 24 CFR 891.100(d).

Project/Activity: NE 6th Street—Estacada, Estacada, Oregon, Project Number: 126-EE031/OR16-S991-003.

Nature of Requirement: Section 891.100(d) prohibits amendment of the amount of approved capital advance funds prior to initial closing.

Granted By: John C. Weicher, Assistant Secretary for Housing-Federal Housing Commissioner.

Date Granted: October 29, 2001.

Reason Waived: The project is economically designed, comparable to other similar projects developed in the area, and all efforts to secure additional funds through other sources have been exhausted.

Contact: Evelyn Berry, Office of Housing Assistance and Grant Administration, Department of Housing and Urban Development, 451 Seventh Street, SW., Washington, DC 20410; telephone: (202) 708-0614, extension 2483.

• Regulation: 24 CFR 891.100(d).

Project/Activity: TELACU San Bernardino, San Bernardino, California, Project Number: 143-EE040/CA43-S001-004.

Nature of Requirement: Section 891.100(d) prohibits amendment of the amount of approved capital advance funds prior to initial closing.

Granted By: John C. Weicher, Assistant Secretary for Housing-Federal Housing Commissioner.

Date Granted: October 29, 2001.

Reason Waived: The City imposed high fees and rising construction costs substantially increased the cost of the project, and the Sponsor exhausted all efforts to find additional funds from outside sources.

Contact: Frank Tolliver, Office of Housing Assistance and Grant Administration, Department of Housing and Urban Development, 451 Seventh Street, SW., Washington, DC 20410; telephone: (202) 708-0614, extension 3821.

• Regulation: 24 CFR 891.100(d).

Project/Activity: Holiday Drive Place, Kansas City, Missouri, Project Number: 084-HD034/MO16-Q001-002.

Nature of Requirement: Section 891.100(d) prohibits amendment of the amount of approved capital advance funds prior to initial closing.

Granted By: John C. Weicher, Assistant Secretary for Housing-Federal Housing Commissioner.

Date Granted: November 28, 2001.

Reason Waived: The project is economically designed, comparable to other projects in the area; the Sponsor cannot contribute any additional funds and has exhausted all efforts to obtain additional funding from other sources.

Contact: Monique Love, Office of Housing Assistance and Grant Administration, Department of Housing and Urban Development, 451 Seventh Street, SW., Washington, DC 20410; telephone: (202) 708-0614, extension 2475.

• Regulation: 24 CFR 891.100(d).

Project/Activity: Friendly Temple Elderly Apartments, St. Louis, Missouri, Project Number: 085-EE051/MO36-S001-004.

Nature of Requirement: Section 891.100(d) prohibits amendment of the amount of approved capital advance funds prior to initial closing.

Granted By: John C. Weicher, Assistant Secretary for Housing-Federal Housing Commissioner.

Date Granted: October 29, 2001.

Reason Waived: The construction cost of the project was reduced to the maximum extent possible to achieve cost savings, the project was economically designed, comparable to other projects in the area, and the Sponsor exhausted all efforts to obtain additional funding from other sources.

Contact: Rita Ross, Office of Housing Assistance and Grant Administration, Department of Housing and Urban Development, 451 Seventh Street, SW., Washington, DC 20410; telephone: (202) 708-0614, extension 2696.

• Regulation: 24 CFR 891.100(d).

Project/Activity: Oxford Trace Apartments, San Antonio, Texas, Project Number: 115-HD028/TX59-Q991-001.

Nature of Requirement: Section 891.100(d) prohibits amendment of the amount of approved capital advance funds prior to initial closing.

Granted By: John C. Weicher, Assistant Secretary for Housing-Federal Housing Commissioner.

Date Granted: December 4, 2001.

Reason Waived: The project was economically designed, comparable to other projects in the area, and the Sponsor exhausted all efforts to obtain additional funding from other sources.

Contact: Rita Ross, Office of Housing Assistance and Grant Administration, Department of Housing and Urban Development, 451 Seventh Street, SW., Washington, DC 20410; telephone: (202) 708-0614, extension 2696.

• Regulation: 24 CFR 891.100(d).

Project/Activity: Mt. Gilead Estates, Mt. Gilead, Ohio, Project Number: 043-HD038/OH16-Q991-001.

Nature of Requirement: Section 891.100(d) prohibits amendment of the amount of approved capital advance funds prior to initial closing.

Granted By: John C. Weicher, Assistant Secretary for Housing-Federal Housing Commissioner.

Date Granted: November 2, 2001.

Reason Waived: It was more economically feasible to change the design and develop the project as two-story elevator buildings, the project was comparable to other projects in the area, and the Sponsor exhausted all efforts to obtain additional funding from other sources.

Contact: Frank Tolliver, Office of Housing Assistance and Grant Administration, Department of Housing and Urban Development, 451 Seventh Street, SW., Washington, DC 20410; telephone: (202) 708-0614, extension 3821.

• Regulation: 24 CFR 891.130(b).

Project/Activity: Shirley Bridge Bungalows, West Seattle, King County, Washington, Project Number: 127-HD027/WA19-Q001-002.

Nature of Requirement: Section 891.130(b) prohibits an identify of interest between the Sponsor or Owner (or Borrower, as applicable) and any development team members or between development team members.

Granted By: John C. Weicher, Assistant Secretary for Housing-Federal Housing Commissioner.

Date Granted: November 28, 2001.

Reason Waived: (Seattle Housing Authority SHA) is providing very favorable lease terms to the project, it is difficult to obtain a Management Agent that will accept a small number of units to manage, and that SHA acting as both the Management Agent and the lesser of the land does not violate applicable state and local conflict of interest laws governing nonprofit corporations.

Contact: Gail Williamson, Office of Housing Assistance and Grant Administration, Department of Housing and Urban Development, 451 Seventh Street, SW., Washington, DC 20410; telephone: (202) 708-0614, extension 2473.

• Regulation: 24 CFR 891.100(d) and 24 CFR 891.165.

Project/Activity: Westminster Scotlandville, Baton Rouge, Louisiana, Project Number: 064-EE105/LA48-S991-007.

Nature of Requirement: Section CFR 891.100(d) prohibits amendment of the amount of approved capital advance funds prior to initial closing. Section 891.165 provides that the duration of the fund reservation for the capital advance is 18 months from the date of issuance with limited exceptions up to 24 months, as approved by HUD on a case-by-case basis.

Granted By: John C. Weicher, Assistant Secretary for Housing-Federal Housing Commissioner.

Date Granted: November 8, 2001.

Reason Waived: Additional time is needed to process the Firm Commitment application, the extremely poor condition of the site resulted in additional project cost and the Owner is unable to obtain the additional funds from other sources.

Contact: Monique Love, Office of Housing Assistance and Grant Administration, Department of Housing and Urban Development, 451 Seventh Street, SW., Washington, DC 20410; telephone: (202) 708-0614, extension 2475.

• Regulation: 24 CFR 891.100(d) and 24 CFR 891.165.

Project/Activity: Gene Gilbert Manor, Albuquerque, New Mexico, Project Number: 116-HD011/NM16-Q981-001.

Nature of Requirement: Section 891.100(d) prohibits amendment of the amount of approved capital advance funds prior to initial closing. Section 891.165 provides that the duration of the fund reservation for the capital advance is 18 months from the date of issuance with limited exceptions up to 24 months, as approved by HUD on a case-by-case basis.

Granted By: John C. Weicher, Assistant Secretary for Housing-Federal Housing Commissioner.

Date Granted: November 7, 2001.

Reason Waived: Delays were caused by the developer trying to locate additional funds for construction, the project is economically designed, comparable to other similar projects developed in the jurisdiction and the Sponsor/Owner is unable to obtain the additional funds from other sources.

Contact: Brenda Butler, Office of Housing Assistance and Grant Administration, Department of Housing and Urban Development, 451 Seventh Street, SW., Washington, DC 20410; telephone: (202) 708-0614, extension 6788.

• Regulation: 24 CFR 891.100(d) and 24 CFR 891.165.

Project/Activity: Dr. A.C. Novello Senior Housing, Bronx, New York, Project Number: 012-EE252/NY36-S981-008.

Nature of Requirement: Section 891.100(d) prohibits amendment of the amount of approved capital advance funds prior to initial closing. Section 891.165 provides that the duration of the fund reservation for the capital advance is 18 months from the date of issuance with limited exceptions up to 24 months, as approved by HUD on a case-by-case basis.

Granted By: John C. Weicher, Assistant Secretary for Housing-Federal Housing Commissioner.

Date Granted: December 4, 2001.

Reason Waived: The project was required to repeat the City of New York's extensive Uniform Land Use Review Process (ULURP) requirements in order to have a “community use” deed restriction removed. Also, the project is economically designed, comparable to other similar projects developed in the jurisdiction and the Owner is unable to obtain the additional funds from other sources.

Contact: Rita Ross, Office of Housing Assistance and Grant Administration, Department of Housing and Urban Development, 451 Seventh Street, SW., Washington, DC 20410; telephone: (202) 708-0614, extension 2696.

• Regulation: 24 CFR 891.165.

Project/Activity: Volunteers of America (VOA) Estacada, Estacada, Oregon, Project Number: 126-EE031/OR16-S991-003.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: December 5, 2001.

Reason Waived: The project experienced delays due to wetland and site drainage issue.

Contact: Frank Tolliver, Office of Housing Assistance and Grant Administration, Department of Housing and Urban Development, 451 Seventh Street, SW., Washington, DC 20410; telephone: (202) 708-0614, extension 3821.

• Regulation: 24 CFR 891.165.

Project/Activity: Hale Noho, Kaneohe, Hawaii, Project Number: 140-HD022/HI10-Q991-003.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: December 19, 2001.

Reason Waived: Additional time needed to review the closing documents.

Contact: Frank Tolliver, Office of Housing Assistance and Grant Administration, Department of Housing and Urban Development, 451 Seventh Street, SW., Washington, DC 20410; telephone: (202) 708-0614, extension 3821.

• Regulation: 24 CFR 891.165.

Project/Activity: Ray Rawson Villas (also known as Las Vegas Supportive Housing, Inc.) Las Vegas, Nevada, Project Number: 125-HD064/NV25-Q971-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: December 4, 2001.

Reason Waived: The Sponsor had to raise significant local funds for the additional construction costs due to the construction boom in the Las Vegas area, and the project architect was forced to withdraw due to ill health.

Contact: Monique Love, Office of Housing Assistance and Grant Administration, Department of Housing and Urban Development, 451 Seventh Street, SW., Washington, DC 20410; telephone: (202) 708-0614, extension 2475.

• Regulation: 24 CFR 891.165.

Project/Activity: Cedar Street Senior Apartments, Garberville, Humboldt County, California, Project Number: 121-EE118/CA39-S981-011.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: October 31, 2001.

Reason Waived: The Sponsor/Owner experienced difficulty locating a qualified contractor and incurred additional delays trying to resolve legal problems and issues raised by the Town of Garberville.

Contact: Rita Ross, Office of Housing Assistance and Grant Administration, Department of Housing and Urban Development, 451 Seventh Street, SW., Washington, DC 20410; telephone: (202) 708-0614, extension 2696.

• Regulation: 24 CFR 891.165.

Project/Activity: John Butterworth Estates (aka ASI—Reno), Reno, Washoe County, Nevada, Project Number: 125-HD066/NV39-Q981-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: October 29, 2001.

Reason Waived: Escalating construction costs in the area made it difficult for the Sponsor/Owner to locate a qualified contractor who would construct the project within the fund reservation amount.

Contact: Rita Ross, Office of Housing Assistance and Grant Administration, Department of Housing and Urban Development, 451 Seventh Street, SW., Washington, DC 20410; telephone: (202) 708-0614, extension 2696.

• Regulation: 24 CFR 891.165.

Project/Activity: Beacon Housing, Pasadena, California, Project Number: 122-EE137/CA16-S981-006.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: December 4, 2001.

Reason Waived: Zone change amendments, changes in architect and the expiration of site options caused delays in construction start.

Contact: Frank Tolliver, Office of Housing Assistance and Grant Administration, Department of Housing and Urban Development, 451 Seventh Street, SW, Washington, DC 20410; telephone: (202) 708-0614, extension 3821.

• Regulation: 24 CFR 891.165.

Project/Activity: Casa de Paz Apartments, Project Number: 122-HD116/CA16-Q981-008.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: December 4, 2001.

Reason Waived: The project required additional funding from two different sources and the approval process took nearly a year.

Contact: Monique Love, Office of Housing Assistance and Grant Administration, Department of Housing and Urban Development, 451 Seventh Street, SW., Washington, DC 20410; telephone: (202) 708-0614, extension 2475.

• Regulation: 24 CFR 891.165.

Project/Activity: Santa Monica Accessible Apartments, Santa Monica, California, Project Number: 122-HD066/CA16-Q951-004.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: December 4, 2001.

Reason Waived: Delays in the construction start were beyond the control of the Sponsor.

Contact: Monique Love, Office of Housing Assistance and Grant Administration, Department of Housing and Urban Development, 451 Seventh Street, SW., Washington, DC 20410; telephone: (202) 708-0614, extension 2475.

• Regulation: 24 CFR 891.165.

Project/Activity: St. Paul Elder Housing Development, St. Paul, Minnesota, Project Number: 092-EE060/MN46-S991-004.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: December 4, 2001.

Reason Waived: The project experienced delays due to poor soil conditions, which required the Sponsor to come up with a cost effective foundation system for the building.

Contact: Monique Love, Office of Housing Assistance and Grant Administration, Department of Housing and Urban Development, 451 Seventh Street, SW., Washington, DC 20410; telephone: (202) 708-0614, extension 2475.

• Regulation: 24 CFR 891.165.

Project/Activity: Sumac Trail Apartments, Rhinelander, Michigan, Project Number: 075-HD050/WI39-Q971-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: December 4, 2001.

Reason Waived: Additional time needed for the architect to correct plan deficiencies in the firm commitment application.

Contact: Alicia Anderson, Office of Housing Assistance and Grant Administration, Department of Housing and Urban Development, 451 Seventh Street, SW., Washington, DC 20410; telephone: (202) 708-0614, extension 5787.

• Regulation: 24 CFR 891.165.

Project/Activity: Valentino Square, Greenfield, Wisconsin, Project Number: 075-EE077/WI39-S981-006.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: October 22, 2001.

Reason Waived: More time was needed by the Field Office to review the firm commitment application.

Contact: Frank Tolliver, Office of Housing Assistance and Grant Administration, Department of Housing and Urban Development, 451 Seventh Street, SW., Washington, DC 20410; telephone: (202) 708-0614, extension 3821.

• Regulation: 24 CFR 891.165.

Project/Activity: Elders Place II, Philadelphia, Pennsylvania, Project Number: 034-EE086/PA26-S981-007.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: October 29, 2001.

Reason Waived: The owner is experiencing difficulty in obtaining a building permit.

Contact: Faye Norman, Office of Housing Assistance and Grant Administration, Department of Housing and Urban Development, 451 Seventh Street, SW., Washington, DC 20410; telephone: (202) 708-0614, extension 2482.

• Regulation: 24 CFR 891.165.

Project/Activity: North Las Vegas, North Las Vegas, Nevada, Project Number: 125-EE111/NV25-S991-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: December 20, 2001.

Reason Waived: Additional time needed to complete the initial closing.

Contact: Frank Tolliver, Office of Housing Assistance and Grant Administration, Department of Housing and Urban Development, 451 Seventh Street, SW., Washington, DC 20410; telephone: (202) 708-0614, extension 3821.

• Regulation: 24 CFR 891.165.

Project/Activity: Joy Senior Apartments, Petersburg, West Virginia, Project Number: 045-EE012/WV15-S981-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: December 12, 2001.

Reason Waived: Additional time is needed because the project incurred delays due to the Owner having to obtain secondary financing, purchase an additional strip of land and resolve legal concerns with an Access Easement and Maintenance Agreement

Contact: Brenda Butler, Office of Housing Assistance and Grant Administration, Department of Housing and Urban Development, 451 Seventh Street, SW., Washington, DC 20410; telephone: (202) 708-0614, extension 6788.

• Regulation: 24 CFR 891.165.

Project/Activity: Riley Cheeks House, District of Columbia, Project Number: 000-HD030/DC39-Q961-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: October 22, 2001.

Reason Waived: The project is being delayed because the Sponsor has to finalize another secondary funding source since the city no longer has HOME funds available.

Contact: Monique Love, Office of Housing Assistance and Grant Administration, Department of Housing and Urban Development, 451 Seventh Street, SW., Washington, DC 20410; telephone: (202) 708-0614, extension 2475.

• Regulation: 24 CFR 891.165.

Project/Activity: Flury Place, Elkridge, Maryland, Project Number: 052-HD034/MD06-Q981-004.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: November 8, 2001.

Reason Waived: An easement is required to provide public sewer to the property and the Sponsor is in the process of drafting the easement for execution by all parties.

Contact: Gail Williamson, Office of Housing Assistance and Grant Administration, Department of Housing and Urban Development, 451 Seventh Street, SW., Washington, DC 20410; telephone: (202) 708-0614, extension 2473.

• Regulation: 24 CFR 891.165.

Project/Activity: Atlantic County Independent Living Complex, Mays Landing, New Jersey, Project Number: 035-HD042/NJ39-Q981-006.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: December 11, 2001.

Reason Waived: Additional time is needed when it was discovered prior to initial closing that the survey and surveyor's report had to be updated and that it took a period of time to accomplish because the surveyor was recovering from a serious injury.

Contact: Rita Ross, Office of Housing Assistance and Grant Administration, Department of Housing and Urban Development, 451 Seventh Street, SW., Washington, DC 20410; telephone: (202) 708-0614, extension 2696.

• Regulation: 24 CFR 891.165.

Project/Activity: Summerdale Court, Clairton, Pennsylvania, Project Number: 033-HD039/PA28-Q971-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: December 4, 2001.

Reason Waived: Additional time is needed for the Owner to prepare and HUD to process the Firm Commitment application in order for the project to reach initial closing.

Contact: Alicia Anderson, Office of Housing Assistance and Grant Administration, Department of Housing and Urban Development, 451 Seventh Street, SW., Washington, DC 20410; telephone: (202) 708-0614, extension 5787.

• Regulation: 24 CFR 891.165.

Project/Activity: NC Orange Senior Housing Corporation, Orange, Essex County, New Jersey, Project Number: 031-EE048/NJ39-S981-005.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: October 29, 2001.

Reason Waived: Additional time is needed for the Federal Home Loan Bank to reissue documentation (destroyed in the attack on the World Trade Center) of the $250,000 in secondary financing being provided to the project.

Contact: Rita Ross, Office of Housing Assistance and Grant Administration, Department of Housing and Urban Development, 451 Seventh Street, SW., Washington, DC 20410; telephone: (202) 708-0614, extension 2696.

• Regulation: 24 CFR 891.165.

Project/Activity: Castle Court at Concord Village, Poughkeepsie, New York, Project Number: 012-EE246/NY36-S981-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: December 20, 2001.

Reason Waived: The project encountered lengthy delays as a result of the Owner's efforts to locate additional funds to cover construction costs, secure local zoning and environmental approvals and negotiate a feasible construction budget.

Contact: Brenda Butler, Office of Housing Assistance and Grant Administration, Department of Housing and Urban Development, 451 Seventh Street, SW., Washington, DC 20410; telephone: (202) 708-0614, extension 6788.

• Regulation: 24 CFR 891.165.

Project/Activity: North Haven Senior Housing, North Haven, Connecticut, Project Number: 017-EE051/CT26-S991-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: December 20, 2001.

Reason Waived: The project experienced significant delays due to the lengthy price negotiations caused by an increase in construction costs throughout the state.

Contact: Alicia Anderson, Office of Housing Assistance and Grant Administration, Department of Housing and Urban Development, 451 Seventh Street, SW., Washington, DC 20410; telephone: (202) 708-0614, extension 5787.

• Regulation: 24 CFR 891.165.

Project/Activity: Inglis Gardens at Evesham, Evesham Township, New Jersey, Project Number: 035-HD040/NJ39-Q981-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: December 20, 2001.

Reason Waived: Additional time needed to process the Firm Commitment application and for the initial closing to take place.

Contact: Frank Tolliver, Office of Housing Assistance and Grant Administration, Department of Housing and Urban Development, 451 Seventh Street, SW., Washington, DC 20410; telephone: (202) 708-0614, extension 3821.

• Regulation: 24 CFR 891.165.

Project/Activity: West Lake Elderly Apartments, Pittsburgh, Pennsylvania, Project Number: 033-EE101/PA28-S991-005.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: December 20, 2001.

Reason Waived: The development of the project is experiencing delays while the Owner seeks additional funds to resolve funding shortfalls.

Contact: Brenda Butler, Office of Housing Assistance and Grant Administration, Department of Housing and Urban Development, 451 Seventh Street, SW., Washington, DC 20410; telephone: (202) 708-0614, extension 6788.

• Regulation: 24 CFR 891.165.

Project/Activity: Mental Health Care, Brandon, Hillsborough County, Florida, Project Number: 067-HD066/FL29-Q991-011.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: November 15, 2001.

Reason Waived: The site had to be rezoned.

Contact: Faye Norman, Office of Housing Assistance and Grant Administration, Department of Housing and Urban Development, 451 Seventh Street, SW., Washington, DC 20410; telephone: (202) 708-0614, extension 2482.

• Regulation: 24 CFR 891.165.

Project/Activity: Jubilee Community Development Corporation, Miami, Florida, Project Number: 067-EE071/FL29-S991-016.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: November 15, 2001.

Reason Waived: The Sponsor had to seek an alternate site.

Contact: Faye Norman, Office of Housing Assistance and Grant Administration, Department of Housing and Urban Development, 451 Seventh Street, SW., Washington, DC 20410; telephone: (202) 708-0614, extension 2482.

• Regulation: 24 CFR 891.165.

Project/Activity: Orlando Volunteers of America (VOA) Elderly Housing, Project Number: 067-EE104/FL29-S991-004.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: December 4, 2001.

Reason Waived: Additional time needed to process the Firm Commitment application.

Contact: Faye Norman, Office of Housing Assistance and Grant Administration, Department of Housing and Urban Development, 451 Seventh Street, SW., Washington, DC 20410; telephone: (202) 708-0614, extension 2482.

• Regulation: 24 CFR 891.165.

Project/Activity: St. Boniface Gardens, Pembroke, Florida, Project Number: 066-EE074/FL29-S991-006.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: December 4, 2001.

Reason Waived: Additional time is needed because the project has experienced delays in the construction start due to the Sponsor being required to have the site rezoned and re-platted.

Contact: Frank Tolliver, Office of Housing Assistance and Grant Administration, Department of Housing and Urban Development, 451 Seventh Street, SW., Washington, DC 20410; telephone: (202) 708-0614, extension 3821.

• Regulation: 24 CFR 891.165.

Project/Activity: Urbanite Apartments, Project Number: 071-HD022/IL06-Q921-009, Chicago, Illinois.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: December 6, 2001.

Reason Waived: Additional time was needed because in the midst of processing the firm application, the City of Chicago requested changes to the redesign and the situation of the building on the site, the City took a long time to review the plans.

Contact: Rita Ross, Office of Housing Assistance and Grant Administration, Department of Housing and Urban Development, 451 Seventh Street, SW., Washington, DC 20410; telephone: (202) 708-0614, extension 2696.

• Regulation: 24 CFR 891.165.

Project/Activity: Accessible Space, Birmingham, Alabama, Project Number: 062-HD041/AL09-Q981-004.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: October 18, 2001.

Reason Waived: The Sponsor/Owner had difficulty locating an alternate site and additional time is needed to resolve zoning issues.

Contact: Rita Ross, Office of Housing Assistance and Grant Administration, Department of Housing and Urban Development, 451 Seventh Street, SW., Washington, DC 20410; telephone: (202) 708-0614, extension 2696.

• Regulation: 24 CFR 891.165.

Project/Activity: National Church Residences, Inc., Orlando, Orange County, Florida, Project Number: 067-EE101/FL29-S991-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: December 20, 2001.

Reason Waived: Additional time is needed for the owner to correct architectural and engineering deficiencies in the firm commitment application.

Contact: Faye Norman, Office of Housing Assistance and Grant Administration, Department of Housing and Urban Development, 451 Seventh Street, SW., Washington, DC 20410; telephone: (202) 708-0614, extension 2482.

• Regulation: 24 CFR 891.165.

Project/Activity: Montclair Senior Housing, Montclair, New Jersey, Project Number: 031-EE051/NJ39-S991-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: December 19, 2001.

Reason Waived: Schedule conflicts prevented the project from closing on the planned date.

Contact: Rita Ross, Office of Housing Assistance and Grant Administration, Department of Housing and Urban Development, 451 Seventh Street, SW., Washington, DC 20410; telephone: (202) 708-0614, extension 2696.

• Regulation: 24 CFR 891.165.

Project/Activity: Home For Life (HFL) Ashtabula Homes, Pasadena, California, Project Number: 122-HD117/CA16-Q991-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: December 27, 2001.

Reason Waived: The Sponsor/Owner had to hold numerous meetings to address concerns raised by the community and local opposition caused delays in obtaining the necessary documents to develop the project.

Contact: Rita Ross, Office of Housing Assistance and Grant Administration, Department of Housing and Urban Development, 451 Seventh Street, SW., Washington, DC 20410; telephone: (202) 708-0614, extension 2696.

• Regulation: 24 CFR 891.165.

Project/Activity: Montclair Senior Housing, Montclair, New Jersey, Project Number: 031-EE051/NJ39-S991-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: December 19, 2001.

Reason Waived: Schedule conflicts prevented the project from closing on the planned date.

Contact: Rita Ross, Office of Housing Assistance and Grant Administration, Department of Housing and Urban Development, 451 Seventh Street, SW., Washington, DC 20410; telephone: (202) 708-0614, extension 2696.

• Regulation: 24 CFR 891.165.

Project/Activity: Accessible Space, Inc. (ASI) Jackson County, Phoenix, Arizona Project Number: 126-HD028/OR16-Q991-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: December 27, 2001.

Reason Waived: Additional time needed for extensive environmental studies and a public comment period in order for the Sponsor to receive HOME funds.

Contact: Frank Tolliver, Office of Housing Assistance and Grant Administration, Department of Housing and Urban Development, 451 Seventh Street, SW., Washington, DC 20410; telephone: (202) 708-0614, extension 3821.

• Regulation: 24 CFR 891.165.

Project/Activity: G.R. Vale Home, Montclair, New Jersey, Project Number: 045-HD030/WV15-Q991-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: December 19, 2001.

Reason Waived: The Sponsor received approval to change sites for the project on June 14, 2001, and is in the process of providing justification to change the project from a group home to an independent living project.

Contact: Gail Williamson, Office of Housing Assistance and Grant Administration, Department of Housing and Urban Development, 451 Seventh Street, SW., Washington, DC 20410; telephone: (202) 708-0614, extension 2473.

• Regulation: 24 CFR 891.165.

Project/Activity: A Project Number: 014-HD066/NY06-Q971-013.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: December 19, 2001.

Reason Waived: The Sponsor received approval to change sites for the project on June 14, 2001, and is in the process of providing justification to change the project from a group home to an independent living project.

Contact: Gail Williamson, Office of Housing Assistance and Grant Administration, Department of Housing and Urban Development, 451 Seventh Street, SW., Washington, DC 20410; telephone: (202) 708-0614, extension 2473.

• Regulation: 24 CFR 891.165.

Project/Activity: Delaware House, Cocheton, Sullivan County, New York, Project Number: 012-HD081/NY36-Q981-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: November 8, 2001.

Reason Waived: The Sponsor/Owner experienced difficulty locating a qualified contractor and incurred additional delays trying to resolve legal problems and issues raised by the Town of Garberville.

Contact: Rita Ross, Office of Housing Assistance and Grant Administration, Department of Housing and Urban Development, 451 Seventh Street, SW., Washington, DC 20410; telephone: (202) 708-0614, extension 2696.

• Regulation: 24 CFR 891.410(c).

Project/Activity: Morse Manor Apartments, Morse, Louisiana, Project Number: 064-EE066.

Nature of Requirement: Section 891.410(c) limits occupancy to very low-income elderly persons, i.e., households of one or more persons and at least one of the persons must be 62 years of age at the time of initial occupancy.

Granted by: John C. Weicher, Assistant Secretary for Housing-Federal Housing Commissioner.

Date Granted: October 10, 2001.

Reason Waived: The waiver was granted due to the project's inability to maintain sustained occupancy. The property only has 12 units occupied to date despite the management agent's extensive outreach and marketing to attract eligible individuals. Since the current occupancy level will not support the complex, the owner/management agent was granted permission to waive the elderly and very low-income requirement to alleviate the current occupancy and financial problems at the property.

Contact: Veronica C. Lewis, Office of Asset Management, Department of Housing and Urban Development, 451 Seventh Street, SW., Washington, DC 20410; telephone: (202) 708-0614, extension 2597.

IV. Regulatory Waivers Granted by the Office of Multifamily Housing Assistance Restricturing (OMHAR)

For further information about the following waiver actions, please see the name of the contact person who immediately follows the description of the waiver granted.

• Regulations: 24 CFR 401.600.

Project/Activity: The following projects requested waivers to the 12-month limit at above-market rents (24 CFR 401.600):

FHA No. | Project name | State
12335102 | Catalina Square Apartments | AZ
04235037 | Central Park Place | OH
06335178 | Cerny Village Apartments | FL
05335671 | Cherry Hotel I & II | NC
08335264 | Directions Apartments | KY
05435433 | Druid Hills Apartments | SC
04335213 | Focus 45 | OH
05235351 | Montpelier-Kennedy Apartments | MD
10335074 | North Omaha Homes | NE
07390014 | Parkwood Apartments | IN
06535272 | The Village Apartments | MS
05435397 | Wisewood Apartments | SC

Nature of Requirement: Section 401.600 requires that projects be marked down to market rents within 12 months of their first expiration date after January 1, 1998. The intent of this provision is to ensure timely processing of requests for restructuring, and that the properties will not default on their FHA insured mortgages during the restructuring process.

Granted By: Ira Peppercorn, Director of OMHAR.

Date Granted: November 27, 2001.

Reasons Waived: The attached list of projects was not assigned to the PAEs in a timely manner or the restructuring analysis was unavoidably delayed due to no fault of the owner.

Contact: Alberta Zinno, Office of Multifamily Housing Assistance Restructuring, Department of Housing and Urban Development, Portals Building, Suite 400, 1280 Maryland Avenue, SW., Washington, DC 20410; telephone: (202) 708-0001, extension 3517.

V. Regulatory Waivers Granted by the Office of Public and Indian Housing

For further information about the following waiver actions, please see the name of the contact person who immediately follows the description of the waiver granted.

• Regulation: 24 CFR 761.30(b)(2).

Project/Activity: Waiver request and extension of grant term for Fiscal Year 1998 Public and Indian Housing Drug Elimination Program (PIHDEP) for the Spokane Indian Housing Authority (SIHA), Wellpinit, WA.

Nature of Requirement: Section 761.30(b)(2) provides that terms of the grant agreement may not exceed 12 months for the Assisted Housing Program, and 24 months for the Public Housing Program. In accordance with this section, HUD may grant an extension of the grant term in response to a written request for an extension stating the need for the extension and indicating the additional time required.

Granted By: Michael Liu, Assistant Secretary, Office of Public and Indian Housing.

Date Granted: October 19, 2001.

Reason Waived: The SIHA has actively pursued implementation of the approved activities. The SIHA will continue to have a positive impact in the community. The continuation of the 1998 PIHDEP will ensure completion of the “Youth Wellness Opportunity Center” activities and provide youth with positive alternatives to crime.

Contact: Deborah Lalancette, Director, Grants Management, Denver Program, Office of Native American Programs, 1999 Broadway, Suite 3390, Denver, CO 80202; telephone: (303) 675-1600, extension 3325.

• Regulation: 24 CFR 902.60.

Project/Activity: The New York City Housing Authority, New York, New York, requested an extension of the deadline set by § 902.60 for public housing authorities (PHAs) to submit their fiscal year-end financial information and management operation information.

Nature of Requirement: Section 902.60 of HUD's Public Housing Assessment System regulations provides that a PHA that must submit its fiscal year-end financial information and management operation information not later than two months after the end of the PHA's fiscal year.

Granted By: Michael Liu, Assistant Secretary for Public and Indian Housing.

Date Granted: October 19, 2001.

Reason Waived: As a result of the events of September 11, 2001, the New York City Housing Authority was unable to submit its financial information and management operation information by the deadline set by the regulation, and requested an extension. An extension was granted.

Contact: Karen Newton, Office of Public and Indian Housing, Department of Housing and Urban Development, 451 Seventh Street, SW., Washington, DC 20410; telephone: (202) 708-1141.

• Regulation: 24 CFR 902.68

Project/Activity: The New York City Housing Authority, New York, New York, requested an extension of the deadline set by § 902.68 for public housing authorities (PHAs) to request a technical review of the physical inspection results of their public housing.

Nature of Requirement: Section 902.68 of HUD's Public Housing Assessment System regulations provides that a PHA that wishes a technical review of the physical inspection results of the PHA's public housing must submit its request no later than 15 days following the issuance of the physical inspection results to the PHA.

Granted By: Michael Liu, Assistant Secretary for Public and Indian Housing.

Date Granted: October 19, 2001.

Reason Waived: As a result of the events of September 11, 2001, the New York City Housing Authority was unable to submit its request within the deadline set by the regulation, and requested an extension. An extension was granted.

Contact: Karen Newton, Office of Public and Indian Housing, Department of Housing and Urban Development, 451 Seventh Street, SW., Washington, DC 20410; telephone: (202) 708-1141.

• Regulation: 24 CFR 903.5.

Project/Activity: The New York City Housing Authority, New York, New York, requested an extension of the deadline established in § 903.5 for public housing authorities (PHAs) to submit its Public Housing Agency Plan.

Nature of Requirement: Section 903.5 provides that a PHA must submit its Public Housing Agency Annual Plan 75 days before the commencement of the PHA's fiscal year.

Granted By: Michael Liu, Assistant Secretary for Public and Indian Housing.

Date Granted: October 19, 2001.

Reason Waived: As a result of the events of September 11, 2001, the New York City Housing Authority was unable to make submit its plan by the deadline set by the regulation, and requested an extension. An extension was granted.

Contact: Rod Soloman, Office of Deputy Assistant Secretary for Policy Program and Legislative Initiatives, Office of Public and Indian Housing, Department of Housing and Urban Development, 451 Seventh Street, SW., Washington, DC 20410; telephone: (202) 708-0713.

• Regulation: 24 CFR 972.200.

Project/Activity: The New York City Housing Authority, New York, New York, requested an extension of the deadline established in § 972.200 for public housing authorities (PHAs) to complete their initial assessment of public housing stock.

Nature of Requirement: Section 972.200 establishes the deadline by which PHAs must complete their initial assessment of public housing stock and submit their certification to HUD that the initial assessment has been completed.

Granted By: Michael Liu, Assistant Secretary for Public and Indian Housing.

Date Granted: October 19, 2001.

Reason Waived: As a result of the events of September 11, 2001, the New York City Housing Authority was unable to complete its initial assessment of public housing stock by the required deadline and requested a 90-day extension for completion and submission, which was granted.

Contact: Rod Solomon, Office of Deputy Assistant Secretary for Policy Program and Legislative initiatives, Office of Public and Indian Housing, Department of Housing and Urban Development, 451 Seventh Street, SW., Washington, DC 20410; telephone: (202) 708-0713.

• Regulation: 24 CFR 983.51(c).

Project/Activity: Housing and Community Development Corporation of Hawaii, Honolulu, HA, project-based assistance program. The Housing and Community Development Corporation of Hawaii requested a waiver to permit it to limit the unit selection policy to site-specific state-owned public housing projects that it planned to privatize. The developments are located in the areas of Kallihi, Waianae, Waipahu and Palolo.

Nature of Requirement: Section 983.51(c) requires that the written selection policy for competitive selection of units to receive project-based assistance identify and specify the weight to be given to the consideration of site and design.

Granted By: Michael Liu, Assistant Secretary for Public and Indian Housing.

Date Granted: October 4, 2001.

Reason Waived: Approval of the waiver minimized the loss of existing low-income housing units.

Contact: Gerald Benoit, Director, Real Estate and Housing Performance Division, Office of Public and Assisted Housing Delivery, Office of Public and Indian Housing, Department of Housing and Urban Development, 451 Seventh Street, SW., Washington, DC 20410; telephone: (202) 708-0477.

• Regulation: 24 CFR 983.51(a), (b) and (c); 24 CFR 983.55 (a) and (d).

Project/Activity: Oklahoma City Housing Authority (OCHA), Oklahoma, Oklahoma City, OK, project-based assistance (PBA) program. OCHA requested the waivers to permit it to provide project-based subsidies for 45 units in Pershing Center, a project being developed by CityCare in Oklahoma City to house homeless men and couples. CityCare's Pershing Center application was selected under HUD's 2000 Continuum of Care Homeless Assistance competition. Pershing Center will consist of 60 dwelling units, 45 of which will have PBA attached. The HOME funds and Continuum of Care Homeless Assistance grant funds received for Pershing Center will be used for construction and supportive services and operating expenses.

Nature of Requirement: Sections 983.51(a), (b) and (c) and 983.55(a) and (d) require HUD review and approval of a written selection policy and advertisement for the competitive selection of units to receive project-based assistance.

Granted By: Michael Liu, Assistant Secretary for Public and Indian Housing.

Date Granted: October 17, 2001.

Reason Waived: Approval of the waivers will provide supportive housing for formerly homeless men and couples.

Contact: Gerald Benoit, Director, Real Estate and Housing Performance Division, Office of Public and Assisted Housing Delivery, Office of Public and Indian Housing, Department of Housing and Urban Development, 451 Seventh Street, SW., Washington, DC 20410; telephone: (202) 708-0477.

• Regulation: 24 CFR 983.51(a) and (b).

Project/Activity: Housing and Community Development Corporation of Hawaii, Honolulu, HA, project-based assistance (PBA) program. Palolo Valley Homes was previously owned by the State of Hawaii and is part of an overall privatization effort of state-owned public housing units. The Department previously granted a waiver to the Housing and Community Development Corporation of Hawaii to attach PBA to Palolo Valley Homes. Housing and Community Development Corporation of Hawaii requested the waiver to permit it to sole source the selection of the developer, Mutual Housing Association of Hawaii (MHAH), which has formed a collaborative effort with the residents of the development to acquire and rehabilitate 306 units. MHAH has already been awarded tax credits through a completive selection process under the State of Hawaii's qualified allocation plan. In addition MHAH has secured financing from the Neighborhood Reinvestment Corporation and the State's Rental Housing Trust Fund toward the rehabilitation effort.

Nature of Requirement: Sections 983.51(a) and (b) require HUD review and approval of a written selection policy and advertisement for the competitive selection of units to receive project-based assistance.

Granted By: Michael Liu, Assistant Secretary for Public and Indian Housing.

Date Granted: November 30, 2001.

Reason Waived: Approval of the waiver minimized the loss of existing low-income housing units.

Contact: Gerald Benoit, Director, Real Estate and Housing Performance Division, Office of Public and Assisted Housing Delivery, Office of Public and Indian Housing, Department of Housing and Urban Development, 451 Seventh Street, SW., Washington, DC 20410; telephone: (202) 708-0477.

• Regulation: 24 CFR 984.303(b)(2).

Project/Activity: Vermont State Housing Authority, Family Self-Sufficiency (FSS) Program.

Nature of Requirement: The regulation requires public housing agencies (PHAs) to establish an interim goal for families in the FSS contract of participation and the goal must require each family to remain independent from welfare assistance for at least one year before expiration of the term of the FSS contract of participation.

Granted By: Michael Liu, Assistant Secretary for Public and Indian Housing.

Date Granted: December 7, 2001.

Reason Waived: The waiver allowed a highly successful FSS program participant who obtained a career position and no longer needed rental assistance to receive the funds in her FSS escrow account.

Contact: Kathryn Greenspan, Housing Program Specialist, Office of Public and Indian Housing, Department of Housing and Urban Development, 451 Seventh Street, SW., Room 4226, Washington, DC 20410; telephone: (202) 708-0744, extension 4055.

• Regulation: 24 CFR 985.101.

Project/Activity: The New York City Housing Authority, New York, New York, requested a waiver of the deadline set by § 985.101 to submit its Section 8 Management Assessment Program (SEMAP) certification.

Nature of Requirement: Section 985.101 requires a PHA to submit its SEMAP certification within 60 days after the end of the fiscal year.

Granted By: Michael Liu, Assistant Secretary for Public and Indian Housing.

Date Granted: October 19, 2001.

Reason Waived: As a result of the events of September 11, 2001, the New York City Housing Authority was unable to submit its certification by the deadline set by the regulation, and requested an extension. An extension was granted.

Contact: Gerald Benoit, Director, Real Estate and Housing Performance Division, Office of Public and Assisted Housing Delivery, Office of Public and Indian Housing, Department of Housing and Urban Development, 451 Seventh Street, SW., Room 4210, Washington, DC 20410; telephone: (202) 708-0477, extension 3517.

• Regulation: 24 CFR 985.101.

Project/Activity: The City of New York Department of Housing Preservation and Development (HPD), New York, New York, requested a waiver of the deadline set by § 985.101 to submit its Section 8 Management Assessment Program (SEMAP) certification.

Nature of Requirement: Section 985.101 requires a PHA to submit its SEMAP certification within 60 days after the end of the fiscal year.

Granted By: Michael Liu, Assistant Secretary for Public and Indian Housing.

Date Granted: October 19, 2001.

Reason Waived: As a result of the events of September 11, 2001, HPD was unable to submit its certification by the deadline set by the regulation, and requested an extension. An extension was granted.

Contact: Gerald Benoit, Director, Real Estate and Housing Performance Division, Office of Public and Assisted Housing Delivery, Office of Public and Indian Housing, Department of Housing and Urban Development, 451 Seventh Street, SW., Room 4210, Washington, DC 20410; telephone: (202) 708-0477, extension 3517.

• Regulation: 24 CFR 1000.214.

Project/Activity: Waiver request for late submission of the Indian Housing Plan (IHP) for the Pinoleville Indian Reservation, Ukiah, CA.

Nature of Requirement: Section 1000.214 provides that recipients must initially send the IHP to the Area Office of Native American Programs (ONAP) no later than July 1. Grant funds cannot be provided until the plan is submitted and determined to be in compliance with section 102 of the Native American Housing Assistance and Self-Determination Act (NAHASDA) of 1996.

Granted By: Michael Liu, Office of the Assistant Secretary, Public and Indian Housing.

Date Granted: October 9, 2001.

Reason Waived: The IHP for Fiscal Year 2001 was received by the Southwest ONAP on July 3, 2001, two days after the regulatory deadline. The Tribe indicated that the IHP was submitted late due to the resignation of the Housing Director and emergency medical situations.

Contact: Deborah Lalancette, Director, Grants Management, Denver Program ONAP, Department of Housing and Urban Development, 1999 Broadway, Suite 3390, Denver, CO 80202; telephone: (303) 675-1600, extension 3325.

• Regulation: 24 CFR 1000.312.

Project/Activity: Request to waive the regulatory requirement to remove demolished 1937 Act Housing Units from formula current assisted stock under the Indian Housing Block Grant for the Turtle Mountain Tribe, Belcourt, ND.

Nature of Requirement: Section 1000.312 provides that current assisted stock consists of housing units owned or operated pursuant to an Annual Contributions Contract. This includes all low rent, Mutual Help, and Turnkey III housing units under management as of September 30, 1997, as indicated in the Formula Response Form.

Granted By: Michael Liu, Assistant Secretary, Office of Public and Indian Housing.

Date Granted: October 27, 2001.

Reason Waived: The units were found by the Centers for Disease Control Preservation, the Indian Health Service and HUD's Real Estate Assessment Center to have black mold that would pose a severe health and safety problem to the occupants. These units will be demolished and replaced using non-1937 Act funds.

Contact: Deborah Lalancette, Director, Grants Management, Denver Program ONAP, Department of Housing and Urban Development, 1999 Broadway, Suite 3390, Denver, CO 80202; telephone: (303) 675-1600, extension 3325.

[FR Doc. 02-9859 Filed 4-22-02; 8:45 am]

BILLING CODE 4210-32-P